POSTAL SERVICE

39 CFR Part 20

Global Direct—Canada Publications Mail

AGENCY: Postal Service.

ACTION: Final rule.

SUMMARY: On August 25, 1999, the Postal Service published in the Federal Register (64 FR 46277) an interim rule and request for comment on a new mail service, Global Direct—Canada Publications Mail. The Postal Service hereby gives notice that it is adopting the interim rule; however, the rate structure and the rates are revised to comply with recent changes made by Canada Post Corporation.

EFFECTIVE DATE: September 14, 2000.

FOR FURTHER INFORMATION CONTACT: Walter J. Grandjean, (202) 314-7256.

SUPPLEMENTARY INFORMATION: In cooperation with Canada Post Corporation (CPC), the Postal Service introduced Global Direct—Canada Publications Mail. This international mail service is intended primarily for publishers seeking easier access to the Canadian domestic postal system.

To qualify, a mailer must agree to mail a minimum of 10,000 pieces or 250 pounds of mail per mailing for delivery to Canadian addresses. All mail must conform to the applicable eligibility, makeup, and preparation requirements for Canadian domestic Publications Mail as specified by Canada Post. Specialized software for sorting and address accuracy that is recognized by Canada Post is required. Service is available from six Postal Service facilities.

Ancillary services for local business reply mail and the return of undeliverable mail are also available. Participating mailers must sign a service agreement with the Postal Service that defines the conditions of mailing under which they will enter Global Direct—Canada Publications Mail.

On August 25, 1999, the Postal Service published in the Federal Register (64 FR 46277) an interim rule and request for comment on Global Direct—Canada Publications Mail. The Postal Service did not receive any written comments on the interim rule. Accordingly, the Postal Service hereby adopts the interim rule and amends the proposed rates and rate structure. This change in rates is necessary to comply with recent rate changes made by CPC for their domestic Publications Mail service. The rates adopted are less than those originally proposed.

The Postal Service adopts the following amendments to the International Mail Manual, which is incorporated by reference in the Code of Federal Regulations. See 39 CFR 20.1.

A transmittal letter changing the relevant pages in the International Mail Manual will be published and automatically transmitted to all subscribers. Notice of issuance of the transmittal will be published in the Federal Register as provided by 39 CFR 20.3.

List of Subjects in 39 CFR Part 20

Foreign relations, International postal service.

PART 20—[AMENDED]

1. The authority citation for 39 CFR part 20 continues to read as follows:

Authority: 5 U.S.C. 552(a); 39 U.S.C. 401, 404, 407, 408.

2. Chapter 6 of the International Mail Manual (IMM) is amended by adding new part 613, Global Direct—Canada Publications Mail, to read as follows:

6 Special Programs

* * * * *

610 Global Direct Service

* * * * *

613 Global Direct—Canada Publications Mail

613.1 Description

Global Direct—Canada Publications Mail is an international mail service that is available on the basis of a service agreement between the Postal Service and a qualifying mailer. Under this service, a mailer must enter newspaper and periodical items that meet the applicable eligibility, makeup, and preparation requirements for Canada Post's domestic Publications Mail. The Postal Service transports the items to Canada for entry into Canada's domestic mail system. The mailer is responsible for ensuring that the items meet Canada Post's makeup and preparation requirements.

613.2 Qualifying Mailers and Mailing Locations

613.21 Qualifying Mailers

Qualifying mailers must agree to mail a minimum of 10,000 items or 250 pounds for delivery to Canadian addresses per mailing. All tendered mailpieces must conform to the applicable eligibility, makeup, and preparation requirements for Canadian domestic mail, as specified by Canada Post. Specialized sortation software and address accuracy software that is recognized by Canada Post is required.

613.22 Mailing Locations

Mailings may be deposited only at the following offices as specified in the service agreement:

John F Kennedy Airport Mail Center, John F Kennedy International Airport, Building 250, Jamaica NY 11430-9998.

New Jersey International Bulk Mail Center, US Postal Service, 80 Country Rd, Jersey City NJ 07097-9998.

Buffalo Auxiliary Service Facility, Buffalo Processing and Distribution Center, 1200 William St, Buffalo NY 14240-9998.

Detroit Bulk Mail Center, US Postal Service 17500 Oakwood Blvd, Allen Park MI 48101-9755.

Chicago Ohare International Annex, US Postal Service, 514 Express Center DR, Chicago IL 60688-9998.

Seattle Bulk Mail Center, US Postal Service, 34301 9TH Ave S, Federal Way WA 98003-6721.

613.3 Postage

613.31 Rates

The rate of postage is determined by the weight and level of sortation of the items mailed, as specified below:

| Rate
Letter Carrier Presort (LCP)
Up to First 7.04 oz. (0.44 lbs.) (200 grams):
Delivery Mode Direct | $0.259
Delivery Facility | 0.295
DCF | 0.295
Residue | 0.462
Over 7.04 oz. (.44 lbs.) (200 grams) Per additional pound | 0.555
National Distribution Guide (NDG)
First 3.52 oz. (0.22 lbs.) (100 grams) | 0.347
Over 3.52 oz. (0.22 lbs.) (100 grams) Per additional pound | 0.720

Global Direct postage dollars may be added to the ISAL/IPA total for the purpose of determining the discount earned; however, the discount will not be applied to the Global Direct—Canada published rates.

613.32 Canada Post Size Definition

Size | Minimum | Maximum
Per piece | 5.5 in. × 3.35 in. × .007 in |
Per bundle |  | Length + girth: 78.7 in. Greatest dimension: 23.6 in. Height: 7.8 in.
Per roll |  | Length + 2 × diameter: 41 in. Greatest dimension: 35.4 in.
Per folded newspaper |  | 14.25 in. × 11 in. × 6.4 in.
Per piece |  | 3 lbs.
Per bundle |  | 55 lbs.

613.33 Postage Payment Method

Postage must be paid through an advance deposit account. Qualifying mailers must have the following information printed on one of the first five or last five pages of each newspaper or periodical issue:

a. The words “Agreement Number 03429792.”

b. The Canadian address to which change of address information and the address blocks of undeliverable copies should be sent. (The Postal Service will provide this address if the mailer does not have a Canadian return address.)

If the publication is mailed under cover, the information outlined above must be clearly visible on the outside of the envelope or, if clear-wrapped, on the front or back cover of the publication.

613.34 Postage Statement

Mailers must complete the total postage on PS Form 3651, Postage Statement—International Permit Imprint Mail or Bulk Letters to Canada with Permit Imprint or Postage Meter Affixed, and attach a completed worksheet, PS Form 3658, Global Direct—Canada Publications Mail. Both of these forms are provided by the Postal Service. A set of separate postage statements must be prepared for each individual mailing.

613.4 Preparation Requirements

Mailers are responsible for ensuring that newspapers and periodicals tendered under the Global Direct—Canada Publications Mail service comply with Canada Post's domestic mail preparation requirements.

613.5 Ancillary Services

613.51 Business Reply Service

This service provides for the return of Canadian business reply mail through the Postal Service to a specified address in Canada. Detailed specifications for this service are contained in Publication 524, Global Direct Canada Admail Service Guide. The rates for this service are:

a. $0.45 for items weighing 1.06 ounces (30 grams) or less.

b. $0.65 for items weighing more than 1.06 ounces (30 grams) but not more than 1.76 ounces (50 grams).

613.52 Return of Undeliverable Mail

Only the address block of the publication will be returned. The rate for this service is $0.50 per address block returned.

613.6 Service Agreement

Before the first mailing, mailers must complete and submit PS Form 3681, Global Direct Service Agreement, 14 days prior to their planned mailing date. The Global Direct Service Agreement can be found in Publication 524, Global Direct Canada Admail Service Guide, or on the Postal Service Web site. Concurrent with the establishment of the agreement, instructions are issued to the designated post office of entry regarding the acceptance and verification of the prospective customer's mailpieces.

613.7 Advance Notification

Mailers who are interested in using Global Direct—Canada Publications Mail service must complete PS Form 3682, Record of Mailing, five days prior to their planned mailing date. The Record of Mailing can be found in Publication 524, Global Direct Canada Admail Service Guide, or on the Postal Service Web site.

Stanley F. Mires,
Chief Counsel, Legislative.

[FR Doc. 00-23657 Filed 9-13-00; 8:45 am]

BILLING CODE 7710-12-P